DEPARTMENT OF ENERGY

Federal Energy Regulatory Commission

[Docket Nos. RP00-475-001, RP00-609-002 and RP96-129-016 (Not Consolidated)]

CMS Trunkline Gas Company, LLC; Notice of Compliance Filing

August 12, 2002.

Take notice that on August 5, 2002, CMS Trunkline Gas Company, LLC (Trunkline) tendered for filing as part of its FERC Gas Tariff, First Revised Volume No. 1, the pro forma tariff sheets listed on Appendix A attached to the filing.

Trunkline asserts that the purpose of this filing is to comply with the Commission's Order on Order No. 637 Settlement issued July 5, 2002 in Docket No. RP00-475-000, et al. 100 FERC ¶ 61,048 (2002).

Trunkline states that copies of this filing are being served on all affected customers, applicable state regulatory agencies and parties to this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-20836 Filed 8-15-02; 8:45 am]

BILLING CODE 6717-01-P